DEPARTMENT OF COMMERCE

International Trade Administration

[A-351-824]

Silicomanganese From Brazil: Extension of Time Limit for Preliminary Results of Antidumping Duty Administrative Review

AGENCY: Import Administration, International Trade Administration, Department of Commerce.

ACTION: Notice of extension of time limit for preliminary results of antidumping duty administrative review.

SUMMARY: The Department of Commerce is extending the time limit for the preliminary results of the administrative review of the antidumping duty order on silicomanganese from Brazil. The preliminary results of this review are now due on October 17, 2003.

EFFECTIVE DATE: September 8, 2003.

FOR FURTHER INFORMATION CONTACT: Brian Ellman, (202) 482-4852, or Katja Kravetsky, (202) 482-0108, AD/CVD Enforcement 3, Import Administration, International Trade Administration, U.S. Department of Commerce, 14th Street and Constitution Ave., NW, Washington, DC 20230.

Extension of Time Limit for Preliminary Results of Review

On January 22, 2003, in response to a request to conduct an administrative review of the antidumping duty order on silicomanganese from Brazil, the Department of Commerce (“the Department”) published a notice of initiation of administrative review covering the period December 1, 2001, through November 30, 2002. See Initiation of Antidumping and Countervailing Duty Administrative Reviews and Request for Revocation in Part, 68 FR 3009.

Currently, the preliminary results of this administrative review are due no later than September 2, 2003. Due to the complexity of certain cost issues, including the cost investigation and high inflation during the period of review, that have arisen in the course of the review, it is not practicable to complete the preliminary results within the time limits mandated by section 751(a)(3)(A) of the Tariff Act of 1930, as amended. Therefore, in accordance with that section, the Department is extending the time limit for completion of the preliminary results until no later than October 17, 2003. The deadline for the final results of this review will continue to be 120 days after publication of the preliminary results.

Dated: August 29, 2003.
Jeffrey May,
Deputy Assistant Secretary for Import Administration, Group I.

[FR Doc. 03-22786 Filed 9-5-03; 8:45 am]

BILLING CODE 3510-DS-S